DEPARTMENT OF COMMERCE

National Oceanic and Atmospheric Administration

50 CFR Part 648

[Docket No. 061020273-6321-02]

RIN 0648-XB60

Fisheries of the Northeastern United States; Scup Fishery; Adjustment to the 2007 Winter II Quota

AGENCY: National Marine Fisheries Service (NMFS), National Oceanic and Atmospheric Administration (NOAA), Commerce.

ACTION: Temporary rule; inseason adjustment.

SUMMARY: NMFS adjusts the 2007 Winter II commercial scup quota and possession limit. This action complies with Framework Adjustment 3 (Framework 3) to the Summer Flounder, Scup, and Black Sea Bass Fishery Management Plan, which established a process to allow the rollover of unused commercial scup quota from the Winter I period to the Winter II period.

DATES: Effective July 24, 2007, through December 31, 2007.

FOR FURTHER INFORMATION CONTACT: Michael Ruccio, Fishery Policy Analyst, (978) 281-9104.

SUPPLEMENTARY INFORMATION: NMFS published a final rule in the Federal Register on November 3, 2003 (68 FR 62250), implementing a process, for years in which the full Winter I commercial scup quota is not harvested, to allow unused quota from the Winter I period (January 1 through April 30) to be added to the quota for the Winter II period (November 1 through December 31), and to allow adjustment of the commercial possession limits for the Winter II period commensurate with the amount of quota rolled over from the Winter I period. Table 4 of the final 2007 quota specifications for summer flounder, scup, and black sea bass (71 FR 75134, December 14, 2006) presented detailed information regarding Winter II possession limits, based on the amount of scup to be rolled over from Winter I to Winter II.

For 2007, the Winter II quota is 1,417,991 lb (643,201 kg), and the best available landings information indicates that 644,155 lb (292,184 kg) remain of the Winter I quota of 4,012,895 lb (1,820,249 kg). Consistent with the intent of Framework 3, the full amount of unused 2007 Winter I quota is transferred to Winter II, resulting in a revised 2007 Winter II quota of 2,062,146 lb (935,374 kg). In addition to the quota transfer, the 2007 Winter II possession limit is increased, consistent with the rollover specifications established in the 2007 final rule, to 3,500 lb (1,588 kg) per trip to provide an appropriate opportunity for fishing vessels to obtain the increased Winter II quota.

Classification

This action is required by 50 CFR part 648 and is exempt from review under Executive Order 12866.

Authority: 16 U.S.C. 1801 et seq.

Dated: July 18, 2007.
Emily Menashes,
Acting Director, Office of Sustainable Fisheries, National Marine Fisheries Service.

[FR Doc. E7-14325 Filed 7-23-07; 8:45 am]

BILLING CODE 3510-22-S